DEPARTMENT OF DEFENSE

Office of the Secretary

Determination on Use of Cooperative Threat Reduction Funds in Pakistan and Afghanistan Under Section 1308 of the National Defense Authorization Act for Fiscal Year 2004

AGENCY: Department of Defense.

ACTION: Notice.

SUMMARY: In accordance with the requirements of Section 1308 of the National Defense Authorization Act for Fiscal year 2004 (Pub. L. 108-136) as amended by Section 1305 of the National Defense Authorization Act for Fiscal year 2008 (Pub. L. 110-181), the Secretary of Defense has determined that the obligation and expenditure of Cooperative Threat Reduction (CTR) funds for the implementation of CTR programs in Pakistan and Afghanistan will permit the United States to take advantage of an opportunity to achieve long-standing nonproliferation goals. The Secretary of Defense further determined that these cooperative threat reduction activities will be completed within a short period of time, and that the Department of Defense is the entity of the Federal Government that is most capable of carrying out such projects or activities. The Deputy Secretary of State concurred with the determination of the Secretary of Defense.

FOR FURTHER INFORMATION CONTACT: Jed Royal at (703) 693-4428, jed.royal@osd.mil.

Dated: November 16, 2010.
Morgan F. Park,
Alternate OSD Federal Register Liaison Officer, Department of Defense.

BILLING CODE 5001-06-P

BILLING CODE 5001-06-C

[FR Doc. 2010-29341 Filed 11-19-10; 8:45 am]

BILLING CODE 5001-06-P